DEPARTMENT OF LABOR

Employment and Training Administration

[TA-W-71,049]

Chrysler Group LLC, Formerly Known as Chrysler LLC, Warren Office Building, Including On-Site Leased Workers from Product Action International, LLC, Warren, Michigan; Amended Certification Regarding Eligibility To Apply for Worker Adjustment Assistance

In accordance with section 223 of the Trade Act of 1974, as amended (“Act”), 19 U.S.C. 2273, the Department of Labor issued a Certification of Eligibility to apply for Worker Adjustment Assistance on March 19, 2010 applicable to workers of Chrysler Group LLC, formerly known as Chrysler LLC, Warren Office Building, Warren, Michigan. The notice will be published in the Federal Register soon.

At the request of the State Agency, the Department reviewed the certification for workers of the subject firm. The workers are engaged in activities related to production of automobiles.

The company reports that workers leased from Product Action International, LLC were employed on-site at the Warren, Michigan location of Chrysler Group LLC, formerly known as Chrysler LLC, Warren Truck Assembly Plant. The Department has determined that these workers were sufficiently under the control of the subject firm to be considered leased workers.

Based on these findings, the Department is amending this certification to include workers leased from Product Action International, LLC working on-site at the Warren, Michigan location of Chrysler Group LLC, formerly known as Chrysler LLC, Warren Office Building.

The amended notice applicable to TA-W-71,049 is hereby issued as follows:

All workers of Chrysler Group LLC, formerly known as Chrysler LLC, Warren Office Building, including on-site leased workers from Product Action International, LLC, Warren, Michigan, who became totally or partially separated from employment on or after May 27, 2008, through March 19, 2012, and all workers in the group threatened with total or partial separation from employment on the date of certification through two years from the date of certification, are eligible to apply for adjustment assistance under Chapter 2 of Title II of the Trade Act of 1974, as amended.

Signed in Washington, DC, this 6th day of April, 2010.
Michael W. Jaffe,
Certifying Officer, Division of Trade Adjustment Assistance.

[FR Doc. 2010-8886 Filed 4-16-10; 8:45 am]

BILLING CODE 4510-FN-P